DEPARTMENT OF HEALTH AND HUMAN SERVICES

National Institutes of Health

National Cancer Institute; Cancellation of Meeting

Notice is hereby given of the cancellation of the National Cancer Institute Special Emphasis Panel, February 24, 2010, 8 a.m. to February 26, 2010, 6 p.m., Gaithersburg Marriott Washingtonian Center, 9751 Washingtonian Blvd., Gaithersburg, MD 20878 which was published in the Federal Register on December 15, 2009, 74 FR 66367.

Dr. Wirth's February 24-26, 2010 meeting has been cancelled.

Dated: February 8, 2010.
Jennifer Spaeth,
Director, Office of Federal Advisory Committee Policy.

[FR Doc. 2010-3206 Filed 2-18-10; 8:45 am]

BILLING CODE 4140-01-P